ENVIRONMENTAL PROTECTION AGENCY

[FRL-8160-8]

National Advisory Council for Environmental Policy and Technology Environmental Technology Subcommittee

AGENCY: Environmental Protection Agency (EPA).

ACTION: Notice of meeting.

SUMMARY: Under the Federal Advisory Committee Act, Public Law 92463, EPA gives notice of a meeting of the Environmental Technology Subcommittee of the National Advisory Council for Environmental Policy and Technology (NACEPT). NACEPT provides advice and recommendations to the Administrator of EPA on a broad range of environmental policy, technology, and management issues. The Environmental Technology Subcommittee was formed to assist EPA in evaluating its current and potential role in the development and commercialization of environmental technologies by suggesting how to optimize existing EPA programs to facilitate the development of sustainable private sector technologies, and by suggesting alternative approaches to achieving these goals. The purpose of the meeting is to continue the Subcommittee's consideration of these issues. A copy of the agenda for the meeting will be posted at http://www.epa.gov/ocem/nacept/cal-nacept.htm.

DATES: The NACEPT Environmental Technology Subcommittee will hold a two day open meeting on Thursday, May 4, from 9 a.m. to 5:30 p.m., and Friday, May 5, from 8:30 a.m. to 1:30 p.m.

ADDRESSES: The meeting will be held at the Crowne Plaza Washington National Airport, 1480 Crystal Drive, Alexandria, Virginia 22202. The meeting is open to the public, with limited seating on a first-come, first-served basis.

FOR FURTHER INFORMATION CONTACT: Mark Joyce, Designated Federal Officer, joyce.mark@epa.gov, 202-233-0068, U.S. EPA, Office of Cooperative Environmental Management (1601E), 1200 Pennsylvania Avenue, NW., Washington, DC 20460.

SUPPLEMENTARY INFORMATION: Requests to make oral comments or provide written comments to the Subcommittee should be sent to Mark Joyce, Designated Federal Officer, at the contact information above. The public is welcome to attend all portions of the meeting. Notice for this meeting was delayed due to an unanticipated and unavoidable change of meeting location shortly before the meeting date.

Meeting Access: For information on access or services for individuals with disabilities, please contact Mark Joyce at 202-233-0068 or joyce.mark@epa.gov. To request accommodation of a disability, please contact Mark Joyce, preferably at least 10 days prior to the meeting, to give EPA as much time as possible to process your request.

Dated: April 14, 2006.
Mark Joyce,
Designated Federal Officer.

[FR Doc. E6-6004 Filed 4-20-06; 8:45 am]

BILLING CODE 6560-50-P